DEPARTMENT OF COMMERCE

National Oceanic and Atmospheric Administration

RIN 0648-XC037

Endangered Species; File No. 16556

AGENCY: National Marine Fisheries Service (NMFS), National Oceanic and Atmospheric Administration (NOAA), Commerce.

ACTION: Notice; receipt of application.

SUMMARY: Notice is hereby given that NMFS Northeast Fisheries Science Center (NEFSC; Responsible Party: Frank Almeida), 166 Water St., Woods Hole, MA, 02543 has applied in due form for a permit to take loggerhead (Caretta caretta), leatherback (Dermochelys coriacea), Kemp's ridley (Lepidochelys kempii), and green (Chelonia mydas) sea turtles for purposes of scientific research.

DATES: Written, telefaxed, or email comments must be received on or before June 28, 2012.

ADDRESSES: The application and related documents are available for review by selecting “Records Open for Public Comment” from the Features box on the Applications and Permits for Protected Species (APPS) home page, https://apps.nmfs.noaa.gov, and then selecting File No. 16556 from the list of available applications.

These documents are also available upon written request or by appointment in the following offices:

Permits and Conservation Division, Office of Protected Resources, NMFS, 1315 East-West Highway, Room 13705, Silver Spring, MD 20910; phone (301) 427-8401; fax (301) 713-0376;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Written comments on this application should be submitted to the Chief, Permits and Conservation Division.

• By email to NMFS.Pr1Comments@noaa.gov (include the File No. in the subject line of the email),

• By facsimile to (301) 713-0376, or

• At the address listed above.

Those individuals requesting a public hearing should submit a written request to the Chief, Permits and Conservation Division at the address listed above. The request should set forth the specific reasons why a hearing on this application would be appropriate.

FOR FURTHER INFORMATION CONTACT: Amy Hapeman or Kristy Beard, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

The NEFSC requests a five-year permit to continue sea turtle ecological research in the Western Atlantic (Florida Keys through Maine). Researchers would capture animals by hand, dip net, encircle net, hoop net, or obtain animals for research from other legal authorities. Sea turtles would have a combination of the following procedures performed: epibiota removal; collect tumors; count/survey; imaging; insert stomach telemeter pill; instrument attachment by drilling the carapace, epoxy or suction-cup; laparoscopy; gastric or cloacal lavage; temporary carapace mark; living, flipper, and passive integrated transponder tagging; measure; photograph/video; blood, fat, feces, scute, tissue, organ and muscle sample; nasal, cloacal, lesion, and oral swab; transport; ultrasound; weigh; tracking by vessel or remotely operated vehicle (ROV); observation by ROV; and recapture for gear removal. Up to one animal of each species could be unintentionally killed over the life of the permit. Researchers may also salvage carcass, tissue, and parts from dead animals encountered during surveys. Up to 541 loggerhead, 516 Kemp's ridley, 498 leatherback, 500 green, and 427 unidentified sea turtles would be taken annually.

Dated: May 23, 2012.
Tammy C. Adams,
Acting Chief, Permits and Conservation Division, Office of Protected Resources, National Marine Fisheries Service.

[FR Doc. 2012-12960 Filed 5-25-12; 8:45 am]

BILLING CODE 3510-22-P